DEPARTMENT OF JUSTICE

Notice of Lodging of Proposed Consent Decree Under the Compresensive Environmental Response, Compensation, and Liability Act

On March 13. 2019, a proposed Consent Decree in United States v. Boston and Maine Corporation, Civil Action No. 13-10087, was filed with the United States District Court for Massachusetts.

The proposed Consent Decree between the United States of America, Boston and Maine Corporation (“B&M”), and the Town of Ayer, resolves the claims, counterclaims, and third-party claims, under the Comprehensive Environmental Response, Compensation, and Liability Act, 42 U.S.C. 9601 et seq., between the parties relating to the cleanup of a portion of Fort Devens encompassing a former railroad roundhouse owned and/or operated by B&M, in Ayer, Massachusetts. The proposed Consent Decree requires B&M to pay the United States $2.4 million in four installments, plus interest, and requires no costs to be paid by the Town of Ayer.

The publication of this notice opens a period for public comment on the proposed Consent Decree. Comments should be addressed to the Assistant Attorney General, Environment and Natural Resources Division, and should refer to United States v. Boston and Maine Corporation, Civil Action No. 13-10087, D.J. Ref. 90-11-3-09710. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $4.75 (25 cents per page reproduction cost) payable to the United States Treasury.

Robert Maher,
Assistant Chief, Environmental Enforcement Section, Environment and Natural Resources Division.

[FR Doc. 2019-05058 Filed 3-18-19; 8:45 am]

BILLING CODE 4410-15-P